DEPARTMENT OF HEALTH AND HUMAN SERVICES

Centers for Disease Control and Prevention (CDC)

The Advisory Committee for the Director of the National Center for Environmental Health (NCEH) of the Centers for Disease Control and Prevention (CDC)

In accordance with section 10(a)(2) of the Federal Advisory Committee Act (P.L. 92-463), the Centers for Disease Control and Prevention (CDC) announces the following committee meeting:

Name: Advisory Committee to the Director, NCEH.

Times and Dates: 1:30-5 pm, April 30, 2001; and 9 am-12:30 pm, May 1, 2001.

Place: JW Marriott, 1331 Pennsylvania Avenue, Washington, DC, 20004.

Status: Open to the public for observation and comment, limited only by the space available. The meeting room accommodates approximately 45 people.

Purpose: The Secretary, and by delegation, the Director, Centers for Disease Control and Prevention, are authorized under section 301(42 U.S.C. 241) and section 311(42 U.S.C. 243) of the Public Health Service Act, as amended, to (1) conduct, encourage, cooperate with, and assist other appropriate public authorities, scientific institutions, and scientists in the conduct of research, investigations, experiments, demonstrations, and studies relating to the causes, diagnosis, treatment, control, and prevention of physical and mental diseases, and other impairments; (2) assist States and their political subdivisions in the prevention of infectious diseases and other preventable conditions, and in the promotion of health and well being; and (3) train State and local personnel in health work.

Matters to be Discussed: Agenda items will include the National Report on Human Exposure to Environmental Chemicals, a Status Report on the National Center on Birth Defects and Developmental Disabilities, National Environmental Health Tracking, and the National Childhood Lead Poisoning Prevention Program.

Agenda items are tentative and subject to change.

Contact Person for More Information: Michael J. Sage, Designated Federal Official, CDC, 4770 Buford Highway, NE, MS F-29, Atlanta, Georgia 30341-3724; telephone 770-488-7020, fax 770-488-7024; e-mail: mjs6@cdc.gov.

The Director, Management Analysis and Services Office, has been delegated the authority to sign Federal Register notices pertaining to announcements of meetings and other committee management activities for both the Centers for Disease Control and Prevention and the Agency for Toxic Substances and Disease Registry.

Dated: April 3, 2001.
Carolyn J. Russell,
Director, Management Analysis and Services Office, Centers for Disease Control and Prevention.

[FR Doc. 01-8876 Filed 4-10-01; 8:45 am]

BILLING CODE 4163-18-P